DEPARTMENT OF AGRICULTURE

Rural Housing Service

Notice of Request for Extension of a Currently Approved Information Collection

AGENCY: The Rural Housing Service, USDA.

ACTION: Proposed collection; comments requested.

SUMMARY: In accordance with the Paperwork Reduction Act of 1995, this notice announces the Rural Housing Service's (RHS) intention to request an extension for a currently approved information collection in support of the program for “Section 515 Multi-Family Housing Preservation and Revitalization Restructuring Demonstration Program (MPR) for Fiscal Year 2006.”

DATES: Comments on this notice must be received by March 8, 2010 to be assured of consideration.

FOR FURTHER INFORMATION CONTACT: Melinda Price, Finance and Housing Analyst, Multi-Family Housing Preservation and Direct Loan Division, USDA Rural Development, Federal Building, Room 507, 200 North High Street, Columbus, OH 43215-2418, telephone (614) 255-2403.

SUPPLEMENTARY INFORMATION: Title: Section 515 Multi-Family Housing Preservation and Revitalization Restructuring (MPR) demonstration Program.

OMB Number: 0575-0190.

Expiration Date of Approval: February 28, 2010.

Type of Request: Extension of currently approved information collection.

Abstract: The Agriculture, Rural Development, Food and Drug Administration, and Related Agencies Appropriations Act, 2006 (Pub. L. 109-97) provides funding for, and authorizes Rural Development to conduct a demonstration program for the preservation and revitalization of the section 515 multi-family housing portfolio. The section 515 multi-family housing program is authorized by section 515 of the Housing Act of 1949 (42 U.S.C. 1485) and provides Rural Development the authority to make loans for low-income multi-family housing and related facilities.

Rural Development refers to this program as Multi-Family Housing Preservation and Revitalization Restructuring Program (MPR). This NOFA sets forth the eligibility and application requirements. Information will be collected from applicants and grant recipients by Rural Development staff in its Local, Area, State, and National offices. This information will be used to determine applicant eligibility for this demonstration program. If an applicant proposal is selected, that applicant will be notified of the selection and given the opportunity to submit a formal application.

Estimate of Burden: Public reporting burden for this collection of information is estimated to average 1 hour per response.

Respondents: Individuals, partnerships, public and private nonprofit corporations, agencies, institutions, organizations, and Indian tribes.

Estimated Number of Respondents: 1,500.

Estimated Number of Responses per Respondent: 1.

Estimated Number of Responses: 2,420.

Estimated Total Annual Burden on Respondents: 2,720.

Copies of this information collection can be obtained from Linda Watts Thomas, Regulations and Paperwork Management Branch, Support Services Division at (202) 692-0226.

Comments: Comments are invited on: (a) Whether the proposed collection of information is necessary for the proper performance of the functions of the RD, including whether the information will have practical utility; (b) the accuracy of RD's estimate of the burden of the proposed collection of information including the validity of the methodology and assumptions used; (c) ways to enhance the quality, utility and clarity of the information to be collected; and (d) ways to minimize the burden of the collection of information on those who are to respond, including through the use of appropriate automated, electronic, mechanical, or other technological collection techniques or other forms of information technology. Comments may be sent to Linda Watts Thomas, Regulations and Paperwork Management Branch, Support Services Division, U.S. Department of Agriculture, Rural Development, STOP 0742, 1400 Independence Ave., SW., Washington, DC 20250. All responses to this notice will be summarized and included in the request for OMB approval. All comments will become a matter of public record.

Dated: December 29, 2009.
Sylvia Bolivar,
Acting Administrator, Rural Housing Service.

[FR Doc. E9-31339 Filed 1-4-10; 8:45 am]

BILLING CODE P